FEDERAL COMMUNICATIONS COMMISSION

47 CFR Part 2

[ET Docket No. 13-44, RM-11652; FCC 16-74]

Authorization of Radiofrequency Equipment and Approval of Terminal Equipment by Telecommunications

AGENCY: Federal Communications Commission.

ACTION: Final rule.

SUMMARY: In this document the Commission addresses two petitions for reconsideration of its Report and Order in this proceeding by describing how it will implement the rules that govern how it recognizes laboratories as accredited and authorized to perform the compliance testing associated with applications for equipment certification and the bodies that accredit those laboratories and extending the transition period by which time all laboratories that test for equipment certification must have FCC-recognized accreditation to perform such testing.

DATES: Effective July 29, 2016.

FOR FURTHER INFORMATION CONTACT: Brian Butler, Office of Engineering and Technology, (202) 418-2702, email: Brian.Butler@fcc.gov, TTY (202) 418-2989.

SUPPLEMENTARY INFORMATION:

1. This document does not contain [new or modified] information collection requirements subject to the Paperwork Reduction Act of 1995 (PRA), Public Law 104-13.

2. This is a summary of the Commission's Memorandum Opinion & Order and Order on Reconsideration, ET Docket No. 13-44, RM-11652, FCC 16-74, adopted May 14, 2015, and released May 15, 2016. The full text of this document is available for inspection and copying during normal business hours in the FCC Reference Center (Room CY-A257), 445 12th Street SW., Washington, DC 20554. The full text may be downloaded at: https://apps.fcc.gov/edocs_public/attachmatch/FCC-16-74A1.docx.

People with Disabilities: To request materials in accessible formats for people with disabilities (braille, large print, electronic files, audio format), send an email to fcc504@fcc.gov or call the Consumer & Governmental Affairs Bureau at 202-418-0530 (voice), 202-418-0432 (tty).

Synopsis

3. The Commission had previously released a Report and Order in ET Docket 13-44 that made many modifications to its equipment authorization rules and procedures. Subsequently, Motorola Solutions, Inc. (Motorola) and the Telecommunications Industry Association (TIA) filed separate petitions requesting reconsideration and/or clarification of the Report and Order. Both petitions focused on a narrow set of related issues, including the process for accreditation of testing laboratories located in countries that have not entered into a Mutual Recognition Agreement (MRA) with the United States and the transition period for such accreditation.

4. The Memorandum Opinion and Order and Order on Reconsideration grants the petitions in part. To address petitioners' concerns that there is a lack of a clear process for the recognition of accrediting bodies within non-MRA countries, the Commission discussed how the criteria listed in Section 2.949 of its rules will apply to compliance testing laboratories that are seeking to become recognized by the Commission as properly accredited, and directed its Office of Engineering and Technology to publish whatever additional information is needed to address the form and substance application submissions should take. The Commission also extended the transition deadlines for testing laboratories to become accredited, an action that particularly affects laboratories currently operating under a specific rule provision that the Report and Order had eliminated. It found merit in the petitioners' concerns that many laboratories—including those located in countries that have not entered into a mutual recognition agreement MRA with the United States—would not be able to become accredited under the existing timeline. The Commission denied a request to let a Commission-recognized testing laboratory that is located in an MRA country vouch for a subsidiary located in non-MRA country, concluding that such action was not needed in light of the other relief it was providing.

Ordering Clauses

5. Pursuant to Sections 1, 4(i), 7(a), 301, 302, 303(f), 303(g), 303(r), 307(e) and 332 of the Communications Act of 1934, as amended, 47 U.S.C. Sections 151, 154(i), 157(a), 301, 302a, 303(f), 303(g), 303(r), 307(e), and 332, this Memorandum Opinion and Order and Order on Reconsideration is adopted.

6. The rules and requirements adopted herein will be effective July 29, 2016.

7. The Petition for Reconsideration of The Telecommunications Industry Association is granted to the extent indicated herein and otherwise denied.

8. The Petition for Partial Reconsideration of Motorola Solutions, Inc. is granted to the extent indicated herein and otherwise denied.

9. The Commission's Consumer and Governmental Affairs Bureau, Reference Information Center, shall send a copy of this Report and Order, including the Final Regulatory Certification, to the Chief Counsel for Advocacy of the Small Business Administration.

10. The Commission will send a copy of this Memorandum Opinion and Order and Order on Reconsideration to Congress and the Government Accountability Office pursuant to the Congressional Review Act. see 5 U.S.C. 801(a)(1)(A).

Pursuant to the authority contained in Sections 4(i), 4(j), and 303 of the Communications Act, as amended, 47 U.S.C. 154(i), 154(j) and 303, that should no petitions for reconsideration or applications for review be timely filed, this proceeding is terminated and ET Docket No. 13-44 is closed.

List of Subjects in 47 CFR Part 2

Communications equipment, Reporting and recordkeeping requirements.

Federal Communications Commission.
Marlene H. Dortch,
Secretary.

Final Rules

For the reasons discussed in the preamble, the Federal Communications Commission amends 47 CFR part 2 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.950 is amended by revising paragraph (e) to read as follows:

§ 2.950 Transition periods.

* * * * *

(e) The Commission will no longer accept applications for § 2.948 test site listing as of July 13, 2015. Laboratories that are listed by the Commission under the § 2.948 process will remain listed until the sooner of their expiration date or through July 12, 2017 and may continue to submit test data in support of certification applications through October 12, 2017. Laboratories with an expiration date before July 13, 2017 may request the Commission to extend their expiration date through July 12, 2017.

* * * * *

[FR Doc. 2016-15336 Filed 6-28-16; 8:45 am]

BILLING CODE 6712-01-P